DEPARTMENT OF AGRICULTURE

Forest Service

Ozark-Ouachita Resource Advisory Committee

AGENCY: Forest Service, USDA.

ACTION: Notice of meeting.

SUMMARY: The Ozark-Ouachita Resource Advisory Committee (RAC) will meet in Waldron, Arkansas. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held July 15, 2014, beginning at 4:30 p.m. CST. Alternate meeting dates are July 31, and August 5, 2014, in case of postponement due to weather, lack of committee quorum, or other unforeseen circumstances. All RAC meetings are subject to cancellation. For status of meeting prior to attendance, please contact the person listed under FOR FURTHER INFORMATION CONTACT.

ADDRESSES: The meeting will be held at The meeting will be held at at the Scott County Courthouse, 100 W. First Street, Waldron, AR 71958. Written comments may be submitted as described under SUPPLEMENTARY INFORMATION. All comments, including names and addresses when provided, are placed in the record and are available for public inspection and copying. The public may inspect comments received at at the Ouachita National Forest Supervisor's Office. Please call ahead to 501-321-5202 to facilitate entry into the building to view comments.

FOR FURTHER INFORMATION CONTACT: Caroline Mitchell, Committee Coordinator, by phone at 501-321-5202 or via email at carolinemitchell@fs.fed.us.

SUPPLEMENTARY INFORMATION: Additional RAC information, including the meeting summary/minutes can be found at the following Web site: https://fs.fed.us/fsfiles/unit/wo/secure_rural_schools.nsf. The agenda will include time for people to make oral statements of three minutes or less. Individuals wishing to make an oral statement should request in writing by July 10, 2014, to be scheduled on the agenda. Anyone who would like to bring related matters to the attention of the committee may file written statements with the committee staff before or after the meeting. Send written comments and requests to Ouachita National Forest, P.O. Box 1270, Hot Springs, AR 71902, or by email to carolinemitchell@fs.fed.us, or via facsimile to 501-321-5399.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: April 11, 2014.
Bill Pell,
Designated Federal Official.

[FR Doc. 2014-08721 Filed 4-16-14; 8:45 am]

BILLING CODE 3410-15-P